DEPARTMENT OF AGRICULTURE

Animal and Plant Health Inspection Service

[Docket No. 01-047-1]

Horse Protection Act; List of Designated Qualified Persons

AGENCY: Animal and Plant Health Inspection Service, USDA.

ACTION: Notice.

SUMMARY: This notice advises the public and the horse industry of the organizations that have a Designated Qualified Person program currently certified by the United States Department of Agriculture and the designated qualified persons currently licensed under each certified organization.

FOR FURTHER INFORMATION CONTACT: Mr. Michael Tuck, Senior Program Analyst, Policy and Program Development, APHIS, 4700 River Road Unit 116, Riverdale, MD 20737-1236; (301) 734-5819.

SUPPLEMENTARY INFORMATION:

Background

The practice known as “soring” causes a horse to suffer pain in any of its limbs for the purpose of affecting its performance in the show ring. In 1970, Congress passed the Horse Protection Act (15 U.S.C. 1821-1831), referred to below as the Act, to eliminate the practice of soring by prohibiting the showing, selling, or transporting of sored horses. Exercising its rulemaking authority under the Act, the Animal and Plant Health Inspection Service (APHIS) enforces regulations in 9 CFR part 11, referred to below as the regulations, that prohibit devices and methods that might sore horses.

In 1979, in response to an amendment to the Act, we established regulations under which show management must, to avoid liability for any sore horses that are shown, appoint individuals trained to conduct preshow inspections to detect or diagnose sored horses. These individuals, referred to as designated qualified persons (DQP's), are trained and licensed under industry-sponsored DQP programs that we certify and monitor. The requirements for DQP programs and licensing of DQP's are set forth in § 11.7 of the regulations.

Section 11.7 also requires that we publish a current list of horse industry organizations that have certified DQP programs and a list of licensed DQP's in the Federal Register at least once each year. The list reads as follows:

Heart of America Walking Horse Association, Lynn B. Bridwell, President, 4201 North Farm Road 205, Stafford, MO 65757.

Licensed DQP's: Ryan Bennett, Chad Campbell, Jennifer Campbell, Larry Carrigan, Ronnie D. Couseler, Atkon Curelon, A.L. Forgey, Lawanda Foust, Robert B. Foust, R. Dewey Foust, Billy Grooms, Floyd Hampsmire, Philip Mankin, Stephen Mullins, Steve Skopec, Charlie Smart, Robert H. Smith, William Stotler, Jerry Williams, John C. Williams.

Horse Protection Commission, Inc., Donna Benefield, Administrative Director, P.O. Box 1330, Frazier Park, CA 93225.

Licensed DQP's: M. Avila, D. Benefield, D. Collins, L. Connelly, J. Hampton, R. Harris, K. Hester, T. Hubbard, S. Kolbusz, B. Lauer, P. Mitchell, D. Moore, L. Peterson, C. Pitts, C. Shepherd, J. Singleton, P. Snodgrass, V. Stamper, J. Stamper, K. Thompson.

Humane Instruction Technocracy, Inc., Cherie Beatty, 159 Hopkins Bridge Road, Unionville, TN 37180.

Licensed DQP's: Randy Adams, Doug Barlow, Cherie Beatty, Ken DeLana, James Fox, Lisa Harris, Chris Lynch, Fields Richardson, Jim Scullin.

Kentucky Walking Horse Association—HIO, Kenny Smith, HIO Director, Route 6, Box 11, Manchester, KY 40962.

Licensed DQP's: Les W. Acree, Jackie Brown, Ray Burton, Michael Conley, Eddie Ray Davis, Terry Doyle, James Floyd, John Goldey, James M. Goode, J. Scott Helton, Leon Hester, Dave Jividen, Paul Lasure, Ricky McCammon, Rick O'Neal, Curtis Pittman, Ted Poland, Arnold “Sarg” Walker, Johnnie Zeller.

Missouri Fox Trotting Horse Breed Association, Inc., Hoover Case, Executive Director, P.O. Box 1027, Ava, MO 65608.

Licensed DQP's: Jan Alford, Julie Alford, Bob Blackwell, Everett Clamp, Kenneth Cochran, Donald J. Daughtery, Gail Geilenfeldt-Freed, Patricia Harris, Deb Heggerston, Mark Landers, Edward Lee, Geno Middleton, Jeanie Nichols, David Ogle, Mike Osborn, Danny Sublett, Shawn Sublett, Lee Yates.

National Horse Show Commission, Inc., Bill Young, Chairperson, P.O. Box 167, Shelbyville, TN 37160.

Licensed DQP's: Melanie Allen, Nolan Benton, Johnny Black, Neal Byrd, Ray Cairnes, Ronnie Campbell, Harry Chaffin, John Cordell, Joe L. Cunningham, Sr., Jessie Davis, Jerry Eaton, William Edwards, Anthony Eubanks, Craig Evans, James Fields, Bob Flynn, Benny Givens, Kathy Givens, Iry Gladney, Jimmy House, Larry R. Landreth, Earl Melton, Andy Messick, Lonnie Messick, Richard Messick, Cary C. Myers, Harlan Pennington, Ricky D. Rutledge, Ronnie Slack, Virginia Stanley, Ricky L. Statham, Charles Thomas, Mark Thomas, Greg Thomason, Melissa Tilley, Clarence Wenham, Ellyn Whitehouse, John F. Wilson.

National Walking Horse Association, Don Bell, Director of Operations, P.O. Box 28, Petersburg, TN 37144.

Licensed DQP's: Don Bell, Hal Bowden, Jim Chipman, Murral R. Johnson, Ralph Lakes, Debbie Matson, Terri Lynn Neuendorf, Jeff Smith, Pamela Wisecup.

Spotted Saddle Horse Breeders and Exhibitors Association, Roger Malone, 1st VP, P.O. Box 1046, Shelbyville, TN 37162.

Licensed DQP's: Joe L. Beard, Marty Coleman, Danny Ray Davis, Tony Edwards, Steve Johnson, Mac McGee, Boyd Melton, E.W. Murray, Russell Phipps, Larry “Keith” Smith, Don Woodson.

Western International Walking Horse Association, David Swingley, President, P.O. Box 2075, Wilsonville, OR 97070.

Licensed DQP's: Larry Corbett, Don Douglas, Ross Fox, Dennis Izzi, Terry Jerke, Joe Nelson, Kelly Smith, Dave Swingley, Kim Swingley.

Done in Washington, DC, this 27th day of June 2001.
Bobby R. Acord,
Acting Administrator, Animal and Plant Health Inspection Service.

[FR Doc. 01-16693 Filed 7-2-01; 8:45 am]

BILLING CODE 3410-34-U